DEPARTMENT OF HEALTH AND HUMAN SERVICES

Administration for Children and Families

Proposed Information Collection Activity; SOAR (Stop, Observe, Ask, Respond) to Health and Wellness Training (SOAR) Demonstration Grant Program Data (NEW COLLECTION)

AGENCY: Office on Trafficking in Persons, Administration for Children and Families, Department of Health and Human Services.

ACTION: Request for public comments.

SUMMARY: The Office on Trafficking in Persons (OTIP), Administration for Children and Families (ACF), U.S. Department of Health and Human Services (HHS), is proposing to collect data for a new grant program: SOAR (Stop, Observe, Ask, Respond) to Health and Wellness Training (SOAR) Demonstration Grant Program Data.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: The SOAR Demonstration Grant Program was developed in response to the Trafficking Victims Protection Act (TVPA) of 2000 (Pub. L. 106-386), section 106(b), as amended (22 U.S.C. 7104(b)(1)) and 22 U.S.C. 7105(b)(1)(B), which calls on agencies to “increase public awareness of the dangers of trafficking and the protections that are available for victims of trafficking” and provide “services to assist potential victims of severe forms of trafficking in persons.” The program's goal is to fund the implementation of SOAR trainings and capacity building efforts to identify, treat, and respond to patients or clients who have experienced severe forms of human trafficking as defined by the TVPA of 2000, as amended, among their patient or client population. SOAR is a nationally recognized, accredited training program delivered by OTIP's National Human Trafficking Training and Technical Assistance Center (NHTTAC) and designed to help target audiences identify and respond to those who are at risk of, are currently experiencing, or have experienced trafficking and connect them with needed resources.

OTIP proposes to collect information to measure grant project performance, provide technical assistance to grant recipients, assess program outcomes, inform program evaluation, respond to congressional inquiries and mandated reports, and inform policy and program development that is responsive to the needs of victims.

The information collection will capture information on organizations enrolled in each grant recipient's multidisciplinary network of providers serving individuals who have experienced, or are at-risk of experiencing, a severe form of trafficking in persons, and clients served. Data elements are designed to capture information about organizational providers (e.g., number of individuals trained to identify and respond to trafficking, types and number of trainings offered, types of services provided, number of clients enrolled in services, organizational barriers to service delivery and implementation, and total funds spent by category of assistance) and client demographics (e.g., total number of clients enrolled in services by providers within the recipient's multidisciplinary network by client age, sex, gender identity, sexual orientation, race/ethnicity, and language spoken).

Respondents: Healthcare, behavioral health, and social service delivery professionals.

Annual Burden Estimates

Recipients will be awarded funding for a 5-year period. This request is for the first 3 years of data collection. We will request an extension to continue data collection beyond 3 years.

Instrument | Total number of respondents | Total number of responses per respondent | Average burden hours per response | Total burden hours | Annual burden hours
Provider Capacity Building Indicators | 75 | 4 | 1 | 300 | 100
SOAR Demonstration Grant Participant Training Form | 4500 | 1 | 0.75 | 3375 | 1125
Client Demographics Indicators | 2000 | 4 | 1 | 8000 | 2667
Human Trafficking Response Protocol (HTPR) Indicators | 75 | 4 | 2.5 | 750 | 250
Multidisciplinary Network Provider Indicators | 75 | 4 | 0.5 | 150 | 50
Categories of Assistance Form | 75 | 1 | 2.5 | 188 | 63

Estimated Total Annual Burden Hours: 4,255.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 22 U.S.C. 7104.

Mary B. Jones,
ACF/OPRE Certifying Officer.

[FR Doc. 2022-18331 Filed 8-24-22; 8:45 am]

BILLING CODE 4184-47-P